NATIONAL SCIENCE FOUNDATION

Advisory Committee for Geosciences; Notice of Meeting

In accordance with the Federal Advisory Committee Act (Pub. L. 92-463, as amended), the National Science Foundation announces the following meeting.

Name: Advisory Committee for Geosciences (1755).

Dates: April 30-May 2, 2003.

Time: Noon-5:30 p.m. Wednesday, April 30, 2003, 8:30 a.m.-5:30 p.m. Thursday, May 1, 2003, 8:30 a.m.-noon Friday, May 2, 3003.

Place: National Science Foundation, 4201 Wilson Boulevard, Suite 375, Arlington, VA 22230.

Type of Meeting: Open.

Contact Person: Dr. Thomas Spence, Directorate for Geosciences, National Science Foundation, Suite 705, 4201 Wilson Boulevard, Arlington, Virginia 22230, Phone 703-292-8500.

Minutes: May be obtained from the contact person listed above.

Purpose of Meeting: To provide advice, recommendations, and oversight concerning support for research, education, and human resources development in the geosciences.

Agenda:

Day 1: Education and Diversity Subcommittee Meeting; Directorate activities and plans.

Day 2: Division Subcommittee Meetings; Directorate initiatives. Cross-directorate programs;

Day 3: Observational activities; Communications.

Dated: April 8, 2003.
Susanne Bolton,
Committee Management Officer.

[FR Doc. 03-8990 Filed 4-11-03; 8:45 am]

BILLING CODE 7555-01-M